DEPARTMENT OF HOMELAND SECURITY

Coast Guard

33 CFR Part 165

[Docket No. USCG-2025-0573]

Safety Zones; Annual Events in the Captain of the Port Eastern Great Lakes Zone

AGENCY: Coast Guard, DHS.

ACTION: Notification of enforcement of regulation.

SUMMARY: The Coast Guard will enforce multiple safety zones for recurring marine events taking place in the Captain of the Port Eastern Great Lakes zone. This action is necessary and intended for the safety of life and property on navigable waters during these events. During the enforcement periods, no person or vessel may enter the respective safety zone without the permission of the Captain of the Port Eastern Great Lakes or a designated representative.

DATES: The regulations in 33 CFR 100.939 will be enforced for the safety zones identified in the SUPPLEMENTARY INFORMATION section below for the dates and times specified.

FOR FURTHER INFORMATION CONTACT: If you have questions about this notice of enforcement, call or email Marine Safety Unit Thousand Islands' Waterways Management Division; telephone 315-774-8546, email SMB-MSUThousandIslands-WaterwaysManagement@uscg.mil.

SUPPLEMENTARY INFORMATION: The Coast Guard will enforce the safety zones listed in 33 CFR 165.939, Table 1, at the following dates and times for the following events:

Clayton Chamber of Commerce Fireworks: The safety zone listed in Table 1 to § 165.939, item (g)14 will be enforced from 7 p.m. through 10 p.m. on July 3, 2025.

Lyme Community Days: The safety zone listed in Table 1 to § 165.939, item (g)16, will be enforced from 5:30 p.m. through 10 p.m. on July 26, 2025.

Oswego Harborfest: The safety zone listed in Table 1 to § 165.939, item (g)27, will be enforced from 11:30 a.m. through 6:30 p.m. on July 25, 2025.

In addition to this notification of enforcement in the Federal Register, the Coast Guard plans to provide notification of this enforcement period via the Local Notice to Mariners and Broadcast Notice to Mariners. This notification is being issued by the Coast Guard Sector Eastern Great Lakes Prevention Department Head at the direction of the Captain of the Port.

Dated: July 2, 2025.
A.J. Murphy,
Commander, U.S. Coast Guard, Sector Eastern Great Lakes Prevention Department Head.

[FR Doc. 2025-12657 Filed 7-7-25; 8:45 am]

BILLING CODE 9110-04-P